DEPARTMENT OF AGRICULTURE

Submission for OMB Review; Comment Request

April 24, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 29, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Housing Service

Title: 7 CFR 1970, Environmental Policies and Procedures.

OMB Control Number: 0575-0197.

Summary of Collection: The National Environmental Policy Act (NEPA) 42 U.S.C. 4321 et seq. and other applicable environmental and historic preservation statutes require all Federal agencies to consider the potential environmental consequences of their actions on the quality of the human environment and historic properties before agency decisions are made and prior to it taking an action.

Need and Use of the Information: Environmental information and data needed for NEPA reviews is not completed on a periodic basis, but on an application-by-application or project-by-project basis. Failure to collect the information would result in the Agency's noncompliance with NEPA and numerous other Federal environmental statutes, regulations, and Executive Orders, which are integrated and coordinated into the agency's NEPA process. RD would not be legally allowed to approve or obligate Federal funds without complying with these laws, regulations, and Executive Orders. The purpose of this information is to evaluate and document the environmental implications of applicant's proposals.

Description of Respondents: Business or other for-profit; State, Local & Tribal Governments; Individuals.

Number of Respondents: 2,000.

Frequency of Responses: Reporting: Annually; On occasion.

Total Burden Hours: 192,700.

Kimble Brown,
Departmental Information Collection Clearance Officer.

[FR Doc. 2019-08584 Filed 4-26-19; 8:45 am]

BILLING CODE 3410-XV-P